DEPARTMENT OF AGRICULTURE

Food and Nutrition Service

Agency Information Collection Activities: Family Day Care Home (FDCH) Participation Study

AGENCY: Food and Nutrition Service (FNS), USDA.

ACTION: Notice.

SUMMARY: In accordance with the Paperwork Reduction Act of 1995, this notice invites the general public and other public agencies to comment on this proposed information collection. This collection is a New collection for the Family Day Care Home (FDCH) Participation Study.

DATES: Written comments must be received on or before February 28, 2022.

ADDRESSES: Comments may be sent to: Chanhatasilpa Chanchalat, Food and Nutrition Service, U.S. Department of Agriculture, 1320 Braddock Place, 5th floor, Alexandria, VA 22314. Comments may also be submitted via email to chanchalat.chanhatasilpa@usda.gov, 703-305-2115. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed Chanhatasilpa Chanchalat at 703-305-2115, or chanchalat.chanhatasilpa@usda.gov.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Family Day Care Home (FDCH) Participation Study.

Form Number: N/A.

OMB Number: Not Yet Assigned.

Expiration Date: Not Yet Determined.

Type of Request: New Collection.

Abstract: The Child and Adult Care Food Program (CACFP), administered by the Food and Nutrition Service (FNS), plays a critical role in supporting the health and wellness of children by reimbursing providers for nutritious meals served to eligible children in their care. The FDCH Participation Study aims to understand FDCH provider experiences with the CACFP by asking a nationally representative sample of both current and former CACFP-participating FDCH providers about their experiences with the program.

Data collection will occur during the spring of 2023. The primary data collection activity will include the FDCH Provider Experience Survey, designed to gather information from FDCH providers to address the three main objectives for the study:

1. Identify and describe the reasons why FDCH providers discontinue their participation in CACFP;

2. Determine and describe CACFP program statutory and regulatory requirements, operational and financial considerations, and Federal, State, and local specifics frequently cited as burdensome by stakeholders. Classify challenges as Federal, State, and local and describe in detail; and

3. Gather and summarize recommendations from FDCH providers on how to reduce barriers or challenges to CACFP participation.

The sample frame for this study will consist of all FDCH providers listed in FNS' list of CACFP-participating providers for program years 2019 and 2022. The sampling frame will be created by comparing the 2019 list of providers with the 2022 list. Those FDCH providers included only on the 2019 list will be the frame of former participants. Those that are on the 2022 list will form the frame of current participants. The survey will include a screener to verify CACFP participation status of the providers and ask follow-up questions related to their experiences—including reasons they discontinued their CACFP participation, program factors they consider burdensome, and recommendations to facilitate CACFP participation for FDCH providers. In addition to comparing responses by the current and former CACFP participants, results will be compared by the following subgroups: Tier status (Tier I/II), program size (small/large), and urbanicity (urban/rural).

Affected Public: State and local government respondents are CACFP State agency managers. For-profit and not-for-profit business respondents are FDCH providers and their sponsors.

Estimated Number of Respondents: The estimated number of respondents is 5,921. This includes 1,878 responses and 4,043 nonresponses. The number of unique respondents for this study are 51 State Agencies, 478 CACFP sponsors, and 1,340 FDCH providers.

Estimated Number of Responses per Respondent: All respondents will be asked to respond to each specific data collection activity only once. The overall average number of responses per respondent across the entire collection is 11.88.

Estimated Total Annual Responses: The estimated number of total annual responses is 70,362.

Estimated Time per Response: 0.0575 minutes. The estimated time of response varies from 1 minute to 1 hour depending on respondent group, as shown in the table below.

Estimated Total Annual Burden on Respondents: 4,045.1 hours. This includes 3,754.4 hours for respondents and 290.7 hours for non-respondents. See the table below for estimated total annual burden for each type of respondent.

BILLING CODE 3410-30-P

Cynthia Long,
Administrator, Food and Nutrition Service.

[FR Doc. 2021-28149 Filed 12-27-21; 8:45 am]

BILLING CODE 3410-30-C